RAILROAD RETIREMENT BOARD

Sunshine Act Meetings

TIME AND DATE: 10:00 a.m., March 23, 2022.

PLACE: Members of the public wishing to attend the meeting must submit a written request at least 24 hours prior to the meeting to receive dial-in information. All requests must be sent to SecretarytotheBoard@rrb.gov.

STATUS: This meeting will be open to the public.

MATTERS TO BE CONSIDERED:

(1) Re-Entry Committee Briefing: Re-entry updates, Testing updates

(2) SCOTUS Wisconsin Central Update

CONTACT PERSON FOR MORE INFORMATION: Stephanie Hillyard, Secretary to the Board, (312) 751-4920.

Authority 5 U.S.C. 552b.

Dated: March 4, 2022.
Stephanie Hillyard,
Secretary to the Board.

[FR Doc. 2022-05007 Filed 3-4-22; 4:15 pm]

BILLING CODE 7905-01-P